DEPARTMENT OF COMMERCE

Office of the Secretary

15 CFR Part 4

[Docket No. 990723201-1208-02]

RIN 0605-AA14

Public Information, Freedom of Information and Privacy

Correction

In rule document 01-31131 beginning on page 65631 in the issue of Thursday, December 20, 2001 make the following correction:

§4.30 [Corrected]

On page 65645, in §4.30, in the second column, in the footnote, in the first line, “5 U.S.C. 552b(b)(4)” should read “5 U.S.C. 552a(b)(4)”.

[FR Doc. C1-31131 Filed 9-24-02; 8:45 am]

BILLING CODE 1505-01-D

SECURITIES AND EXCHANGE COMMISSION

[Release No. 34-46474; File No. 4-208]

Intermarket Trading System; Order Granting Approval of the Nineteenth Amendment to the ITS Plan Relating to the Philadelphia Stock Exchange, Inc.'s Implementation of a Remote Specialist Program

September 9, 2002.

Correction

In notice document 02-23605 appearing on page 58654 in the issue of Tuesday, September 17, 2002 make the following correction:

On page 58654, in the first column, after the subject line, the date is added to read as set forth above.

[FR Doc. C2-23605 Filed 9-24-02; 8:45 am]

BILLING CODE 1505-01-D